DEPARTMENT OF ENERGY

Federal Energy Regulatory Commission

[Project No. 2082-062; Project No. 14803-000]

PacifiCorp, Klamath River Renewal Corporation; Notice of Application for Amendment and Transfer of License and Soliciting Comments, Motions To Intervene, and Protests

Take notice that the following hydroelectric application has been filed with the Commission and is available for public inspection.

a. Type of Application: Amendment and Partial Transfer of License.

b. Project Nos.: 2082-062 and 14803-000.

c. Date filed: September 23, 2016, supplemented March 1, 2017,and June 23, 2017.

d. Applicants: PacifiCorp (transferor)Klamath River Renewal Corporation (transferee).

e. Name of Projects: Klamath Project (P-2082)Lower Klamath Project (P-14803).

f. Location: Klamath Project: On the Klamath River in Klamath County, Oregon, and on the Klamath River and Fall Creek in Siskiyou County, California. The project includes about 477 acres of federal lands administered by the Bureau of Reclamation and the Bureau of Land Management.

Lower Klamath Project: On the Klamath River in Klamath County, Oregon, and Siskiyou County, California. The project would include about 395 acres of federal lands administered by the Bureau of Land Management.

g. Filed Pursuant to: Federal Power Act 16 U.S.C. 791 (a)-825(r).

h. Applicants Contact:

For Transferor: Ms. Sarah Kamman, Vice President and General Counsel, PacifiCorp, 825 NE Multnomah Street, Suite 2000, Portland, OR 97232, (503) 813-5865, sarah.kamman@pacificorp.com.

For Transferee: Mr. Michael Carrier, President, Klamath River Renewal Corporation, 423 Washington Street, 3rd Floor, San Francisco, CA 94111, (415) 820-4441, michael@klamathrenewal.org.

i. FERC Contact: Diana Shannon, (202) 502-6139 or diana.shannon@ferc.gov.

j. Deadline for filing comments, motions to intervene, and protests: 30 days from the date that the Commission issues this notice.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2082-062 and P-14803-000.

k. Description of Amendment and Transfer Request: The applicants request that the Commission amend the existing Klamath Project No. 2082 license to remove the J.C. Boyle, Copco No. 1, Copco No. 2, and Iron Gate developments from the license and create a new project, the Lower Klamath Project, for those developments. The applicants also request that the Lower Klamath Project be transferred from PacifiCorp to the Klamath River Renewal Corporation (Renewal Corporation) which, if the Commission were to approve its surrender application in a separate proceeding, would then surrender the project license and remove the project dams. The applicants supplemented their September 23, 2016 application on March 1, 2017 and June 23, 2017 with information setting forth the legal, technical, and financial capabilities of the Renewal Corporation to perform its responsibilities as transferee. Applicants further request that the Commission act on the amendment and transfer application by December 31, 2017, and allow the Renewal Corporation six months from the issuance date of the order approving transfer to submit proof of its acceptance of license transfer.

l. Locations of the Application: A copy of the application is available for inspection and reproduction at the Commission's Public Reference Room, located at 888 First Street NE., Room 2A, Washington, DC 20426, or by calling (202) 502-8371. This filing may also be viewed on the Commission's Web site at http://www.ferc.gov/docs-filing/efiling.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the addresses in item (h) above.

m. Individuals desiring to be included on the Commission's mailing list should so indicate by writing to the Secretary of the Commission.

Register online at http://www.ferc.gov/docs-filing/esubscription.asp to be notified via email of new filings and issuances related to this or other pending projects. For assistance, contact FERCOnlineSupport@ferc.gov, (866) 208-3676 (toll free), or (202) 502-8659 (TTY).

n. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Agencies may obtain copies of the application directly from the applicant. A copy of any protest or motion to intervene must be served upon each representative of the applicant specified in the particular application. If an intervenor files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

o. Additional Information: The Renewal Corporation's request to surrender and decommission the Lower Klamath Project, also filed on September 23, 2016, will be considered in a separate proceeding. The surrender, including removal of the project dams, is contingent upon a Commission order amending PacifiCorp's existing Klamath Project (P-2082) license to create a new project, the Lower Klamath Project, and transferring the Lower Klamath Project to the Renewal Corporation, as described in item (k), above, and Commission approval of the surrender application. The Renewal Corporation requests that the Commission not act on the surrender request until it is ready to accept license transfer and states that it will file, by December 31, 2017, its decommissioning plan to serve as the basis for Commission staff's environmental and engineering review of the surrender application. Because only a licensee may file to surrender a license and the Commission does not accept contingent applications, the surrender application is deemed to be filed by both PacifiCorp and the Renewal Corporation. See 18 CFR. 6.1 and 4.32(j). If the Commission approves the transfer and the Renewal Corporation accepts the license, following which the Renewal Corporation would become the sole licensee, the surrender proceeding would continue solely in Project No. 14803. We are not requesting comments at this time on the surrender application. After receiving the applicants' supplemental filing regarding a decommissioning plan, the Commission will issue a notice requesting comments, protests, and motions to intervene in that proceeding.

Dated: October 5, 2017.
Kimberly D. Bose,
Secretary.

[FR Doc. 2017-22005 Filed 10-11-17; 8:45 am]

BILLING CODE 6717-01-P